DEPARTMENT OF DEFENSE

Defense Acquisition Regulations System

[Docket Number DARS-2016-0043; OMB Control Number 0704-0398]

Submission for OMB Review; Comment Request

ACTION: Notice.

SUMMARY: The Defense Acquisition Regulations System has submitted to OMB for clearance, the following proposal for collection of information under the provisions of the Paperwork Reduction Act.

DATES: Consideration will be given to all comments received by April 26, 2017.

SUPPLEMENTARY INFORMATION:

Title and OMB Number: DFARS Defense Acquisition Regulation Supplement (DFARS) Part 211, Describing Agency Needs, and related clauses at DFARS 252.211; OMB Control Number 0704-0398.

Type of Request: Revision of a currently approved collection.

Number of Respondents: 641.

Responses per Respondent: 102 (approximately).

Annual Responses: 65,573.

Average Burden per Response: 0.27 hours (approximately).

Annual Burden Hours: 17,836.

Needs and Uses:

(a) DFARS provision 252.211-7004, Alternate Preservation, Packaging, and Packing, allows potential offerors to propose alternatives to military preservation, packaging, or packing specifications. Specifically, the offeror may include in its offer two unit prices in the format specified in the clause: one price based on use of the military specifications, and another price based on commercial or industry preservation, packaging, or packing of equal or better protection that the military. DoD uses the information to evaluate and award contracts using commercial or industrial preservation, packaging, or packing if the offeror chooses to propose such alternates.

(b) DFARS provision 252.211-7005, Substitutions for Military or Federal Specifications and Standards, permits offerors to propose Single Process Initiative (SPI) processes as alternatives to military or Federal specifications and standards cited in DoD solicitations for previously developed items. DoD uses the information to verify Government acceptance of an SPI process as a valid replacement for a military or Federal specification or standard.

(c) DFARS clause 252.211-7007, Reporting of Government-Furnished Property, requires contractors to report to the DoD Item Unique Identification (IUID) Registry all serially-managed Government-furnished property (GFP), as well as contractor receipt of non-serially managed items. The clause provides a list of specific reportable data elements and procedures for updating the IUID registry. DFARS 252.211-7007 strengthens the accountability and end-to-end traceability of GFP within DoD. Through electronic notification of physical receipt, the contracting officer is made aware that GFP has arrived at the contractor's repair facility. The DoD logistics community uses the information as a data source of available DoD equipment. In addition, the DoD organization responsible for contract administration uses the data to test the adequacy of the contractor's property management system.

Affected Public: Businesses or other for-profit and not-for profit institutions.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Information Collections Program, WHS/ESD Office of Information Management, 4800 Mark Center Drive, 3rd Floor, East Tower, Suite 03F09, Alexandria, VA 22350-3100.

Jennifer L. Hawes,
Editor, Defense Acquisition Regulations System.

[FR Doc. 2017-05985 Filed 3-24-17; 8:45 am]

BILLING CODE 5001-06-P